ENVIRONMENTAL PROTECTION AGENCY

40 CFR Part 300

[EPA-HQ-SFUND-1990-0011; FRL-8202-9]

National Oil and Hazardous Substances Pollution Contingency Plan; National Priorities List

AGENCY: Environmental Protection Agency.

ACTION: Notice of intent to delete the Arctic Surplus Superfund Site from the National Priorities List.

SUMMARY: The Environmental Protection Agency (EPA) is issuing a notice of intent to delete the Arctic Surplus Superfund Site (Site) located in Fairbanks, Alaska, from the National Priorities List (NPL) and requests public comments on this notice of intent. The NPL, promulgated pursuant to section 105 of the Comprehensive Environmental Response, Compensation, and Liability Act (CERCLA) OF 1980, as amended, is found at Appendix B of 40 CFR part 300 of the National Oil and Hazardous Substances Pollution Contingency Plan (NCP). The EPA and the State of Alaska, through the Alaska Department of Environmental Conservation, have determined that all appropriate response actions under CERCLA, other than operation and maintenance and five-year reviews, have been completed. However, this deletion does not preclude future actions under Superfund.

DATES: Comments concerning this site must be received by August 28, 2006.

ADDRESSES: Submit your comments, identified by Docket ID No. EPA-HQ-SFUND-1990-0011, by one of the following methods:

• http://www.regulations.gov. Follow the online instruction for submitting comments.

• E-mail: gusmano.jacques@epa.gov.

• Fax: (907) 271-3424.

• Mail: Jacques L. Gusmano, Remedial Project Manager, U.S. Environmental Protection Agency, Region 10, Alaska Operations Office, 222 West 7th Avenue, Suite 19, Anchorage, Alaska 99513.

• Hand Delivery: 222 West 7th Avenue, Suite 19, Anchorage, Alaska 99513. Such deliveries are only accepted during the Docket's normal hours of operation, and special arrangements should be made for deliveries of boxed information.

Instructions: Direct your comments to Docket ID No. EPA-HQ-SF-1990-0011. EPA's policy is that all comments received will be included in the public docket without change and may be made available online at http://www.regulations.gov including any personal information provided, unless the comment includes information claimed to be Confidential Business Information (CBI) or other information whose disclosure is restricted by statute. Do not submit information that you consider to be CBI or otherwise protected through http://www.regulations.gov or e-mail. The http://www.regulations.gov. Web site is an “anonymous access” system, which means EPA will not know your identity or contact information unless you provide it in the body of your comment. If you send an e-mail comment directly to EPA without going through http://www.regulations.gov, your e-mail will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index in the Deletion Docket Bibliography. Although listed in the index, some information is not publicly available, e.g., CBI or other information whose disclosure is restricted by statute. Certain other material, such as copyrighted material, will be publicly available only in hard copy. Deletion Docket materials are available electronically or in hard copy at the EPA's Region 10 Superfund Records Center, 1200 Sixth Avenue, Seattle, Washington 98101 and the Defense Reutilization & Marketing Office (Administrative Records) Building 5001, Mile Badger Road, Fairbanks, AK 99703 at (907) 353-1143. The Region 10 Superfund Records Center is open from 8 a.m. to 4:30 p.m. by appointment, Monday through Friday, excluding legal holidays The Superfund Records Center telephone number is (206) 553-4494.

FOR FURTHER INFORMATION CONTACT: Jacques L. Gusmano, Remedial Project Manager, U.S. Environmental Protection Agency, Region 10, Alaska Operations Office, 222 West 7th Avenue, Suite 19, Anchorage, Alaska 99513, phone: (907) 271-1271, fax: (907) 271-3424, e-mail: gusmano.jacques@epa.gov.

SUPPLEMENTARY INFORMATION: In the “Rules and Regulations” section of today's Federal Register, we are publishing a direct final notice of deletion of the Arctic Surplus Superfund Site without prior notice of intent to delete because we view this as a noncontroversial revision and anticipate no adverse comment. We have explained our reasons for this deletion in the preamble to the direct final deletion. If we receive no adverse comment(s) on this notice of intent to delete or the direct final notice of deletion, we will not take further action on this final notice of deletion. If we receive adverse comment(s), we will withdraw the direct final notice of deletion and it will not take effect. We will, as appropriate, address all public comments in a subsequent final deletion notice based on this notice of intent to delete. We will not institute a second comment period on this notice of intent to delete. Any parties interested in commenting must, do so at this time. For additional information, see the direct final notice of deletion which is located in the Rules section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 18, 2006.
Michelle Pirzadeh,
Acting Regional Administrator, Region 10.

[FR Doc. E6-11811 Filed 7-26-06; 8:45 am]

BILLING CODE 6560-50-P